DEPARTMENT OF THE TREASURY

Internal Revenue Service

26 CFR Part 1

[TD 10020]

RIN 1545-BI22

Reissuance of State or Local Bonds

Correction

In rule document 2024-30267 beginning on page 106315 in the issue of Monday, December 30, 2024, make the following correction:

§ 1.1001-3 [Corrected]

On page 106320, in § 1.1001-3, in the second column, in the sixth line from the bottom, “§ 1.10011.1001-3” should read “§ 1.1001-3”.

[FR Doc. C1-2024-30267 Filed 1-8-25; 8:45 am]

BILLING CODE 0099-10-D